OFFICE OF THE UNITED STATES TRADE REPRESENTATIVE

Notice of Proposed Measure and Opportunity for Public Comment Pursuant to Section 421 of the Trade Act of 1974: Certain Steel Wire Garment Hangers From the People's Republic of China

AGENCY: Office of the United States Trade Representative.

ACTION: Notice of proposed measure; request for comments.

SUMMARY: The United States International Trade Commission (ITC) has determined, pursuant to section 421(b)(1) of the Trade Act of 1974, as amended (the Trade Act) (19 U.S.C. 2451(b)(1)), that certain steel wire garment hangers ¹ from the People's Republic of China (China) are being imported into the United States in such increased quantities or under such conditions as to cause market disruption to the domestic producers of like or directly competitive products. Pursuant to section 421(h)(1) of the Trade Act, the United States Trade Representative (USTR) is publishing notice of proposed restrictions with respect to imports of the subject steel wire garment hangers from China. USTR invites domestic producers, importers, exporters, and other interested parties to submit their views and evidence on the appropriateness of the proposed restrictions and whether they would be in the public interest. USTR also invites interested parties to participate in a public hearing (if requested).

¹ For purposes of its investigation, the ITC considered certain steel wire garment hangers to consist of garment hangers, fabricated from steel wire in gauges from 9 to 17, inclusive (3.77 to 1.37 millimeters, inclusive), whether or not galvanized or painted, whether or not coated with latex or epoxy or other similar gripping materials, and whether or not fashioned with paper covers or capes (with or without printing) and/or nonslip features such as saddles, tubes, or struts. After fabrication, such hangers are in lengths from 7 to 20 inches, inclusive (177.8 to 508 millimeters, inclusive), and the hanger's length or bottom bar is composed of steel wire and/or saddles, tubes, or struts. The product may also be identified by its commercial designation, referring to the shape and/or style of the hanger or the garment for which it is intended, including but not limited to Shirt, Suit, Strut, and Caped hangers. Specifically excluded are wooden, plastic, aluminum, and other garment hangers that are covered under separate subheadings of the Harmonized Tariff System of the United States (HTS). The products subject to the investigation are classified in subheading 7326.20.00 of the HTS and reported under statistical reporting number 7326.20.0020.

DATES: Requests for USTR to hold a public hearing are due by March 18, 2003. Written comments and requests to testify at any public hearing are due by March 20, 2003. If a request for USTR to hold a public hearing is received, the hearing will be held on April 1, 2003.

ADDRESSES: Submissions by electronic mail: FR0070@ustr.gov; Submissionsse 3581 by facsimile: Sandy McKinzy, USTR, at (202) 395-9672.

FOR FURTHER INFORMATION CONTACT: For procedural questions concerning public comments and holding of a public hearing, contact Sandy McKinzy, USTR, telephone (202) 395-9483, facsimile (202) 395-9672. Other questions should be addressed to Terrence J. McCartin, Office of North Asian Affairs, USTR, telephone (202) 395-3900, or David L. Weller, Office of General Counsel, USTR, telephone (202) 395-3581.

SUPPLEMENTARY INFORMATION:

1. The ITC Investigation and Section 421

Following receipt of a petition filed on November 27, 2002, on behalf of CHC Industries, Inc., M&B Metal Products Co., Inc., and United Wire Hanger Corp., the ITC instituted investigation No. TA-421-2, under section 421 of the Trade Act (19 U.S.C. 2451) to determine whether the subject steel wire garment hangers from China are being imported into the United States in such increased quantities or under such conditions as to cause or threaten to cause market disruption to the domestic producers of like or directly competitive products. The ITC made an affirmative determination on January 27, 2003, and transmitted a report on its determination, as well as its remedy proposals, to USTR on February 14, 2003. The views of the ITC, including its remedy proposals, are available on the ITC's Web site (http://www.usitc.gov/7ops/chinasafeguard.htm) and are contained in USITC Publication 3575 (February 2003), entitled “Certain Steel Wire Garment Hangers from China: Investigation No. TA-421-2”. A copy of that publication, which also includes the ITC staff report, can be obtained from the ITC by faxing a request to (202) 205-2104 or calling (202) 205-1809.

Following an affirmative determination by the ITC, and pursuant to Section 421(h) of the Trade Act, USTR is required to make a recommendation to the President concerning what action, if any, to take to remedy the market disruption. Within 15 days after receipt of USTR's recommendation, the President is required to provide import relief unless the President determines that provision of such relief is not in the national economic interest of the United States or, in extraordinary cases, that the taking of action would cause serious harm to the national security of the United States. (Section 421(k)) Prior to making a recommendation, USTR is required to publish notice of any proposed measures and of the opportunity to comment.

2. Proposed Measure and Opportunity for Comment

The ITC recommended that the President impose a duty, in addition to the current rate of duty, for a three-year period on imports of the subject steel wire garment hangers from China, as follows: 25 percent ad valorem in the first year, 20 percent ad valorem in the second year, and 15 percent ad valorem in the third year. The ITC further recommended that, if applications are filed, the President direct the U.S. Department of Commerce and the U.S. Department of Labor to provide expedited consideration of trade adjustment assistance for firms and/or workers affected by the subject imports. (68 FR 8926) USTR proposes this remedy for further consideration by domestic producers, importers, exporters, and other interested parties, and invites any of these parties to submit their views and evidence on the appropriateness of the proposed remedy and whether it would be in the public interest. In addition, USTR invites comments on other possible actions, including: imposition of an additional duty on imports of the subject steel wire garment hangers from China, at a rate and/or for a period different from the ITC recommendation; imposition of a tariff-rate quota on the subject imports from China; imposition of a quota on the subject imports from China; an import monitoring mechanism; or no import relief (pursuant to a determination under Section 421(k) of the Trade Act regarding the national economic interest or national security). In commenting on possible actions, interested parties are requested to address: (i) The short- and long-term effects that implementation of the proposed action is likely to have on the domestic steel wire garment hanger industry, other domestic industries, and downstream consumers, and (ii) the short- and long-term effects that not taking the proposed action is likely to have on the domestic steel wire garment hanger industry, its workers, and on other domestic industries or communities.

An interested party may request that USTR hold a public hearing, which request must be received by March 18, 2003. Written comments, as well as requests to testify at any public hearing, must be received by March 20, 2003, and should be submitted in accordance with the instructions below. Parties that have submitted comments and/or requested to testify at any public hearing will be informed if a hearing is to be held. In addition, information on any public hearing may be obtained by contacting Sandy McKinzy at (202) 395-9483. If a public hearing is requested, it will be held on April 1, 2003, at 9:30 a.m. in Rooms 1 and 2, 1724 F Street, NW., Washington, D.C. Requests to testify must include the following information: (1) Name, address, telephone number, fax number, and firm or affiliation of the person wishing to testify; and (2) a brief summary of the comments to be presented.

3. Requirements for Submissions

In order to facilitate prompt processing of submissions, USTR strongly urges and prefers electronic (e-mail) submissions in response to this notice.

Persons making submissions by e-mail should use the following subject line: “Wire Hangers” followed by (as appropriate) “Written Comments”, “Request for Public Hearing”, or “Request to Testify”. Documents should be submitted as either WordPerfect, MSWord, or text (.TXT) files. Supporting documentation submitted as spreadsheets are acceptable as Quattro Pro or Excel. For any document containing business confidential information submitted electronically, the file name of the business confidential version should begin with the characters “BC-”, and the file name of the public version should begin with the characters “P-”. The “P-” or “BC-” should be followed by the name of the submitter. Persons who make submissions by e-mail should not provide separate cover letters; information that might appear in a cover letter should be included in the submission itself. To the extent possible, any attachments to the submission should be included in the same file as the submission itself, and not as separate files.

Written comments submitted in response to this request will be placed in a file open to public inspection pursuant to 15 CFR 2003.5, except business confidential information exempt from public inspection in accordance with 15 CFR 2003.6. Business confidential information submitted in accordance with 15 CFR 2003.6 must be clearly marked “BUSINESS CONFIDENTIAL” at the top of each page, including any cover letter or cover page, and must be accompanied by a nonconfidential summary of the confidential information. All public documents and nonconfidential summaries shall be available for public inspection in the USTR Reading Room. The USTR Reading Room is open to the public, by appointment only, from 10 a.m. to 12 noon and 1 p.m. to 4 p.m., Monday through Friday. An appointment to review the file must be scheduled at least 48 hours in advance and may be made by calling (202) 395-6186.

Wendy S. Cutler,
Assistant United States Trade Representative, Office of North Asian Affairs.

[FR Doc. 03-5329 Filed 3-5-03; 8:45 am]

BILLING CODE 3190-01-P